DEPARTMENT OF THE INTERIOR

Geological Survey

[GX17EE000101100]

National Geospatial Advisory Committee

AGENCY: U.S. Geological Survey, Interior.

ACTION: Notice of meeting.

SUMMARY: Notice is hereby given of a meeting of the National Geospatial Advisory Committee (NGAC). The NGAC, which is composed of representatives from governmental, private sector, non-profit, and academic organizations, has been established to advise the Chair of the Federal Geographic Data Committee (FGDC) on management of Federal geospatial programs, the development of the National Spatial Data Infrastructure (NSDI), and the implementation of Office of Management and Budget (OMB) Circular A-16.

DATES: The meeting will be held from 1:00 p.m. to 5:30 p.m. on March 21, 2017, and from 8:30 a.m. to 4:00 p.m. on March 22, 2017 (times are Eastern Daylight Time).

ADDRESSES: The meeting will be held at the Department of the Interior building, 1849 C Street NW., Washington, DC 20240 in the South Penthouse Conference Room.

FOR FURTHER INFORMATION CONTACT: Mr. John Mahoney, Senior Advisor to Executive the Executive Director, Federal Geospatial Data Committee (FGDC), U.S. Geological Survey; phone (206) 220-4621; email jmahoney@usgs.gov.

SUPPLEMENTARY INFORMATION: The NGAC provides advice and recommendations related to management of Federal and national geospatial programs, the development of the National Spatial Data Infrastructure, and the implementation of Office of Management and Budget Circular A-16 and Executive Order 12906. The NGAC will review and comment upon geospatial policy and management issues and will provide a forum to convey views representative of non-federal stakeholders in the geospatial community. NGAC is one of the primary ways that the FGDC collaborates with its broad network of partners. The Agenda Topics to be addressed at the meeting include:

—FGDC Update

—NSDI Strategic Plan Framework

—Geospatial Platform

—Standards Coordination

—Landsat Advisory Group

—Key Geospatial Data Initiatives, including the 3D Elevation Program, the National Address Database, and Imagery

Meetings of the NGAC are open to the public. Additional information about the meeting is available at https://www.fgdc.gov/ngac.

Members of the public who wish to attend the meeting must register in advance for entrance. Registrations are due by March 17, 2017. While the meeting will be open to the public, registration is required for entrance to the Department of the Interior Building, and seating may be limited due to room capacity. The meeting will include an opportunity for public comment on March 22, 2017. Attendees wishing to provide public comment should register by March 17, 2017. Please register by contacting Lucia Foulkes at the FGDC; phone (703) 648-4142; email lfoulkes@usgs.gov. Comments may also be submitted to the NGAC in writing. Please send written comments to U.S. Geological Survey, FGDC, 12201 Sunrise Valley Drive, Room 2A323A, Reston, VA 20192.

PUBLIC DISCLOSURE OF COMMENTS: Before including your address, phone number, email address, or other personal identifying information in your comment, please be aware that your entire comment—including your personal identifying information—may be made publicly available at any time. While you may ask us in your comment to withhold your personal identifying information from public review, we cannot guarantee that we will be able to do so.

Kenneth Shaffer,
Deputy Executive Director, Federal Geographic Data Committee.

[FR Doc. 2017-04164 Filed 3-2-17; 8:45 am]

BILLING CODE 4338-11-P